DEPARTMENT OF HOMELAND SECURITY

Coast Guard

33 CFR Part 165

[Docket No. USCG-2021-0362]

Special Local Regulations; Beaufort Water Festival and Fireworks; Beaufort, SC

AGENCY: Coast Guard, DHS.

ACTION: Notice of enforcement of regulation.

SUMMARY: The Coast Guard will enforce two annual recurring marine events for the Beaufort Water Festival to provide for the safety of life on the Beaufort River in Beaufort, SC, during the event. The Coast Guard will enforce these two annual recurring marine events on July 16, 2021, from 9 p.m. until 10:30 p.m., on July 17, 2021, from 8 a.m. until 12:30 p.m., on July 18, 2021, from 12:30 p.m. until 3:30 p.m., and on July 24, 2021, from 12:30 p.m. until 4:30 p.m. All non-participant persons and vessels will be prohibited from entering, transiting, anchoring, or remaining within the regulated areas during the enforcement period unless authorized by the Captain of the Port Charleston or a designated representative. The operator of any vessel in the regulated area must comply with instructions from the Coast Guard or designated representative.

DATES: The regulations in 33 CFR 100.704, Table 1 to § 100.704, Items No. (7) and (8), will be enforced at various times from July 16, 2021 through July 24, 2021.

FOR FURTHER INFORMATION CONTACT: If you have questions about this proposed rulemaking, call or email Lieutenant Commander Chad Ray, Sector Charleston Office of Waterways Management, Coast Guard; telephone (843) 740-3184, email Chad.L.Ray@uscg.mil.

SUPPLEMENTARY INFORMATION: The Coast Guard will enforce the two annual recurring marine events listed in 33 CFR 100.704, Table 1 to § 100.704, Items No. (7) and (8), for the Beaufort Water Festival and Air Show. The Coast Guard will enforce these two annual recurring marine events on July 16, 2021, from 9 p.m. until 10:30 p.m., on July 17, 2021, from 8 a.m. until 12:30 p.m., on July 18, 2021, from 12:30 p.m. until 3:30 p.m., and on July 24, 2021, from 12:30 p.m. until 4:30 p.m. This action is being taken to provide for the safety of life on navigable waterways during this event. The regulations in § 100.704, Table 1 to § 100.704, Items No. (7) and (8), specify the locations of the regulated areas for the Beaufort Water Festival, which encompass a portion of the Beaufort River in Beaufort, South Carolina. During the enforcement periods, as reflected in § 100.704(c)(1), if you are the operator of a vessel in the regulated area you must comply with directions of the COTP Charleston or from his designated representative, including the Patrol Commander or any Official Patrol displaying a Coast Guard ensign.

In addition to this notice of enforcement in the Federal Register, the Coast Guard plans to provide notification of this enforcement period via the Local Notice to Mariners, Broadcast Notice to Mariners, and on-scene designated representatives.

Dated: June 25, 2021.
J.D. Cole,
Captain, U.S. Coast Guard, Captain of the Port Charleston.

[FR Doc. 2021-14025 Filed 6-30-21; 8:45 am]

BILLING CODE 9110-04-P